ENVIRONMENTAL PROTECTION AGENCY

[OPP-00714; FRL-6780-1]

1, 4-Bis(bromoacetoxy)-2-butene Preliminary Risk Assessment; Notice of Availability

AGENCY: Environmental Protection Agency (EPA).

ACTION: Notice.

SUMMARY: This notice announces the availability of documents that were developed as part of EPA's process for making reregistration eligibility decisions for the antimicrobial active ingredient 1, 4-Bis(bromoacetoxy)-2-butene (Bis-2) for use as an agent against slime-forming bacteria in: Oil wells and oil field enhanced recovery systems; in pulp and paper mill systems; and as an in-can preservative of water-based coatings. This notice also starts the 60-day public comment period for the Preliminary Risk Assessment for Bis-2. By allowing access and opportunity for comment on the Preliminary Risk Assessment, EPA is seeking to strengthen stakeholder involvement and help ensure our decisions under the Food Quality Protection Act (FQPA) are transparent and based on the best available information.

DATES: Comments, identified by docket control number OPP-00714, must be received on or before August 6, 2001.

ADDRESSES: Comments may be submitted by mail, electronically, or in person. Please follow the detailed instructions for each method as provided in Unit I. of the SUPPLEMENTARY INFORMATION. To ensure proper receipt by EPA, it is imperative that you identify docket control number OPP-00714 in the subject line on the first page of your response.

FOR FURTHER INFORMATION CONTACT: Killian Swift, Antimicrobials Division (7510C), Office of Pesticide Programs, Environmental Protection Agency, 1200 Pennsylvania Ave., NW., Washington, DC 20460; telephone number: (703) 308-6346; e-mail address: swift.killian@epa.gov.

SUPPLEMENTARY INFORMATION:

I. General Information

A. Does this Action Apply to Me?

This action is directed to the public in general. This action may, however, be of interest to pulp and paper mill workers using papermaking machinery, oil field workers using secondary (enhanced) recovery systems, homeowners using water-based coatings, and paints manufactured by Buckman Laboratories International, Inc. e.g., “those persons who are or may be required to conduct testing of chemical substances under the Toxic Substances Control Act (TSCA).” Since other entities may also be interested, the Agency has not attempted to describe all the specific entities that may be affected by this action. If you have any questions regarding the applicability of this action to a particular entity, consult the person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the Federal Register--Environmental Documents.” You can also go directly to the Federal Register listings at http://www.epa.gov/fedrgstr/. “In addition, copies of the preliminary risk assessment for 1, 4-Bis(bromoacetoxy)-2-butene also may be accessed at http://www.epa.gov/pesticides/reregistration.”

2. In person. The Agency has established an official record for this action under docket control number OPP-00714. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Office of Pesticide Programs (OPP), Environmental Protection Agency, 1921 Jefferson Davis Highway, Crystal Mall #2, Room 119, Arlington, VA 22202. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPP-00714 in the subject line on the first page of your response.

1. By mail. Submit your comments to: Public Docket (7502C), Office of Pesticide Programs (OPP), Environmental Protection Agency, 1921 Jefferson Davis Highway, Crystal Mall #2, Room 119, Arlington, VA 22202.

2. In person or by courier. Deliver your comments to: Public Docket (7502C), Office of Pesticide Programs (OPP), Environmental Protection Agency, 1921 Jefferson Davis Highway, Crystal Mall #2, Room 119, Arlington, VA 22202. The Public Docket is open from 8 a.m. to 4 p.m., Monday through Friday, excluding legal holidays. The telephone number for the Public Docket is (703) 305-5805.

3. Electronically. You may submit your comments electronically by e-mail to: opp-docket@epa.gov, or mail your computer disk to the address identified in this unit. Do not submit any information electronically that you consider to be CBI. Electronic comments must be submitted as an ASCII file avoiding the use of special characters and any form of encryption. Comments and data also will be accepted on standard disks in WordPerfect 6.1/8.0 or ASCII file format. All comments in electronic form must be identified by docket control number OPP-00714. Electronic comments also may be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the rule or collection activity.

7. Make sure to submit your comments by the deadline in this notice.

8. To ensure proper receipt by EPA, be sure to identify the docket control number assigned to this action in the subject line on the first page of your response. You may also provide the name, date, and Federal Register citation.

II. What Action is the Agency Taking?

EPA is making available preliminary risk assessments that have been developed as part of EPA's process for making reregistration eligibility decisions for Bis-2.

The Agency is providing the opportunity, through this notice, for interested parties to provide written comments and input to the Agency on the preliminary risk assessments for the chemical specified in this notice. Such comments and input could address, for example, the availability of additional data to further refine the risk assessments, or could address the Agency's risk assessment methodologies and assumptions as applied to this specific chemical. Comments should be limited to issues raised within the preliminary risk assessments and associated documents. EPA will provide other opportunities for public comment on other science issues associated with Bis-2. Failure to comment on any issues as part of this opportunity will in no way prejudice or limit a commenter's opportunity to participate fully in later notice and comment processes. All comments should be submitted by 60 days from the date of the publication of this Federal Register notice.

List of Subjects

Environmental protection, Pesticides.

Dated: May 11, 2001.
Frank Sanders,
Director, Antimicrobial Division, Office of Pesticide Programs.

[FR Doc. 01-13949 Filed 6-5-01; 8:45 a.m.]

BILLING CODE 6560-50-S